COMMODITY FUTURES TRADING COMMISSION

Sunshine Act Meetings

TIME AND DATE: 9:30 a.m., Friday, July 12, 2013.

PLACE: CFTC Headquarters Conference Center, Three Lafayette Centre, 1155 21st St. NW., Washington, DC.

STATUS: Open.

MATTERS TO BE CONSIDERED: The Commission has scheduled this meeting to consider various rulemaking matters, including the issuance of cross-border final guidance and exemptive order. The agenda for this meeting is available to the public and posted on the Commission's Web site at http://www.cftc.gov. In the event that the time, date, or place of the meeting changes, an announcement of the change, along with the new time, date, or place of the meeting, will be posted on the Commission's Web site.

CONTACT PERSON FOR MORE INFORMATION: Melissa D. Jurgens, Secretary of the Commission, 202-418-5516.

Melissa D. Jurgens,
Secretary of the Commission.

[FR Doc. 2013-16607 Filed 7-8-13; 11:15 am]

BILLING CODE 6351-01-P